DEPARTMENT OF STATE

[Public Notice: 9584]

Annual Certification of Shrimp-Harvesting Nations

AGENCY: Bureau of Oceans and International Environmental and Scientific Affairs, Department of State.

ACTION: Certification.

SUMMARY: On May 3, 2016, the Department of State certified that 14 shrimp-harvesting nations have a regulatory program comparable to that of the United States governing the incidental taking of the relevant species of sea turtles in the course of commercial shrimp harvesting and that the particular fishing environments of 26 shrimp-harvesting nations and one economy do not pose a threat of the incidental taking of covered sea turtles in the course of such harvesting.

DATES: This notice is effective on May 26, 2016.

FOR FURTHER INFORMATION CONTACT: Section 609 Program Manager, Office of Marine Conservation, Bureau of Oceans and International Environmental and Scientific Affairs, Department of State, 2201 C Street NW., Washington, DC 20520-2758; telephone: (202) 647-3263; email: DS2031@state.gov.

SUPPLEMENTARY INFORMATION: Section 609 of Public Law 101-162 (“Sec. 609”) prohibits imports of certain categories of shrimp unless the President certifies to the Congress by May 1, 1991, and annually thereafter, that either: (1) The harvesting nation has adopted a program governing the incidental capture of sea turtles in its commercial shrimp fishery comparable to the program in effect in the United States and has an incidental take rate comparable to that of the United States; or (2) the particular fishing environment in the harvesting nation does not pose a threat of the incidental taking of sea turtles. The President has delegated the authority to make this certification to the Department of State (“the Department”). The Department's Revised Guidelines for the Implementation of Section 609 were published in the Federal Register on July 8, 1999, at 64 FR 36946.

On May 3, 2016, the Department certified 14 nations on the basis that their sea turtle protection programs are comparable to that of the United States: Colombia, Costa Rica, Ecuador, El Salvador, Gabon, Guatemala, Guyana, Honduras, Mexico, Nicaragua, Nigeria, Pakistan, Panama, and Suriname. The Department also certified 26 shrimp-harvesting nations and one economy as having fishing environments that do not pose a danger to sea turtles. Sixteen nations have shrimping grounds only in cold waters where the risk of taking sea turtles is negligible: Argentina, Belgium, Canada, Chile, Denmark, Finland, Germany, Iceland, Ireland, the Netherlands, New Zealand, Norway, Russia, Sweden, the United Kingdom, and Uruguay. Ten nations and one economy only harvest shrimp using small boats with crews of less than five that use manual rather than mechanical means to retrieve nets or catch shrimp using other methods that do not threaten sea turtles. Use of such small-scale technology does not adversely affect sea turtles. The 10 nations and one economy are: The Bahamas, Belize, China, the Dominican Republic, Fiji, Hong Kong, Jamaica, Oman, Peru, Sri Lanka, and Venezuela.

A completed DS-2031 Shrimp Exporter's/Importer's Declaration must accompany all shipments of shrimp or shrimp product into the United States. Only shrimp or products from shrimp harvested in the 40 certified nations and one economy listed above may be accompanied by a DS-2031 with Box 7(B) checked. All DS-2031 forms accompanying shrimp imports from uncertified nations must be originals with Box 7(A)(1), 7(A)(2), or 7(A)(4) checked, consistent with the form's instructions with regard to the method of production of the product and based on any relevant prior determinations by the Department of State, and signed by a responsible government official of the harvesting nation's competent domestic fisheries authority. The Department has not determined that any uncertified nation qualifies to export shrimp or products of shrimp harvested in a manner as described in 7(A)(3).

Shrimp and products of shrimp harvested with turtle excluder devices (TEDs) in an uncertified nation may, under specific circumstances, be eligible for importation into the United States under the DS-2031 Box 7(A)(2) provision for “shrimp harvested by commercial shrimp trawl vessels using TEDs comparable in effectiveness to those required in the United States.” Use of this provision requires that the Department determine in advance that the government of the harvesting nation has put in place adequate procedures to monitor the use of TEDs in the specific fishery in question and to ensure the accurate completion of the DS-2031 forms. At this time, the Department has determined that only shrimp and products of shrimp harvested in the Exmouth Gulf Prawn Fishery, the Northern Prawn Fishery, the Queensland East Coast Trawl Fishery, and the Torres Strait Prawn Fishery in Australia and shrimp or products of shrimp harvested in the French Guiana domestic trawl fishery are eligible for entry under this provision. Thus, the importation of TED-caught shrimp from any other uncertified nation will not be allowed. A responsible government official of Australia or France must sign in Block 8 of the DS-2031 form accompanying these imports into the United States.

In addition, the Department has determined that shrimp or products of shrimp harvested in the Spencer Gulf region in Australia and Mediterranean red shrimp (Aristeus antennatus) harvested in the Mediterranean Sea by Spain may be exported to the United States under the DS-2031 Box 7(A)(4) provision for “shrimp harvested in a manner or under circumstances determined by the Department of State not to pose a threat of the incidental taking of sea turtles.” A responsible government official of Australia or Spain must sign in Block 8 of the DS-2031 form accompanying these imports into the United States.

The Department has communicated these certifications and determinations under Section 609 to the Office of International Trade of U.S. Customs and Border Protection.

Dated: May 19, 2016.
David A. Balton,
Deputy Assistant Secretary of State for Oceans and Fisheries, Bureau of Oceans and International Environmental and Scientific Affairs, Department of State.

[FR Doc. 2016-12544 Filed 5-25-16; 8:45 am]

BILLING CODE 4710-09-P